DEPARTMENT OF HEALTH AND HUMAN SERVICES

Centers for Disease Control and Prevention

[Program Announcement 01140]

Expansion of HIV/AIDS/STD Surveillance, Care, and Prevention Activities in the Republic of Uganda; Notice of Availability of Funds

A. Purpose

The Centers for Disease Control and Prevention (CDC) announces the availability of fiscal year (FY) 2001 funds for a cooperative agreement program for the expansion of HIV/AIDS/STD surveillance, care, and prevention activities in the Republic of Uganda.

The purpose of this cooperative agreement is to improve HIV/AIDS surveillance, care, and prevention capacity and activities in Uganda. This will be accomplished by cooperation between CDC and the Ministry of Health AIDS Control Program (MOH/ACP) of Uganda. These collaborative activities could profoundly change the focus and activities of the Ugandan National AIDS Policy. Most importantly, having a better understanding of the association between specific behaviors, STDs, and HIV prevalence will likely improve AIDS control programs and prevention efforts in Uganda and eventually throughout sub-Saharan Africa.

The U.S. Government seeks to reduce the impact of HIV/AIDS in specific countries within sub-Saharan Africa, Asia, and the Americas through its Leadership and Investment in Fighting an Epidemic (LIFE) initiative. Through this LIFE program, CDC has initiated its Global AIDS Program (GAP) to strengthen capacity and expand activities in the areas of (1) HIV primary prevention; (2) HIV care, support, and treatment; and (3) capacity and infrastructure development, especially for surveillance. Targeted countries represent those with the most severe epidemics and the highest number of new infections. They also represent countries where the potential for impact is greatest and where U.S. government agencies are already active. Uganda is one of these targeted countries.

As a key partner in the U.S. Government's LIFE initiative, CDC is working in a collaborative manner with national governments and other agencies to develop programs of assistance to address the HIV/AIDS epidemic in LIFE initiative countries. In particular, CDC's mission in Uganda is to work with Ugandan and international partners in discovering and applying effective interventions to prevent HIV infection and associated illness and death from AIDS.

Uganda has been a global leader in the development of programs to combat the spread of HIV. Although Uganda was one of the first countries in the world to experience an AIDS epidemic, it was also one of the first to show a sustained decline in HIV/AIDS prevalence rates, due in part to a rapid national response. However, despite intensive interventions, incidence and prevalence rates of HIV infection are still unacceptably high in Uganda. It is estimated that about 1,500,000 people (7-8 percent of the general population) in the country are living with HIV. These statistics suggest the need for the expansion and improvement of a range of surveillance, care, and prevention activities and services.

Accurate surveillance is the mainstay of public health programs, providing essential information for focusing prevention activities, allocating resources, and monitoring effectiveness of programs. While Uganda has shown a decrease in HIV prevalence, questions remain as to which specific behavior changes are partly responsible for this decrease and how much of the reduction is due to a lessening of HIV/STD incidence versus mortality rates. Additionally, gaps in care and prevention activities are factors that must be addressed to reduce the epidemic's burdensome impact in Uganda. The prevention and control of HIV/AIDS in Uganda will continue to depend on the availability of accurate surveillance data and the continuation and expansion of basic care and prevention activities.

B. Eligible Applicants

Assistance will be provided only to the AIDS Control Program (ACP) of the Uganda Ministry of Health (MOH). No other applications are solicited.

The ACP is the only appropriate and qualified organization to conduct a specific set of activities supportive of the CDC Global AIDS Program's technical assistance to Uganda because:

1. The ACP is uniquely positioned, in terms of legal authority, ability, and credibility among Ugandan citizens, to collect crucial data on HIV/AIDS prevalence and incidence, as well as other health information, among Ugandan citizens.

2. The ACP already has established mechanisms to access health information, enabling it to immediately become engaged in the activities listed in this announcement.

3. The purpose of the announcement is to build upon the existing framework of health information and activities that the MOH itself has collected or initiated.

4. The Ministry of Health in Uganda has been mandated by the Ugandan constitution to coordinate and implement activities necessary for the control of epidemics, including HIV/AIDS and STDs.

C. Availability of Funds

Approximately $700,000 is available in FY 2001 to fund this award. It is expected that the award will begin on or about September 30, 2001, and will be made for a 12-month budget period within a project period of five years. Annual funding estimates may change.

Continuation awards within the approved project period will be made on the basis of satisfactory progress as evidenced by required reports and the availability of funds.

All requests for funds, including the budget contained in the application, shall be stated in U.S. dollars. Once an award is made, the Department of Health and Human Services (DHHS) will not compensate foreign grantees for currency exchange fluctuations through the issuance of supplemental awards.

Use of Funds

Funds received under this announcement may not be used for the direct purchase of antiretroviral drugs to treat established HIV infection, occupational exposures, and non-occupational exposures and will not be used for the purchase of machines and reagents to conduct the necessary laboratory monitoring for patient care.

Applicants may contract with other organizations under these cooperative agreements, however, applicants must perform a substantial portion of the activities (including program management and operations and delivery of prevention services for which funds are requested.

No funds appropriated under this Act shall be used to carry out any program of distributing sterile needles or syringes for the hypodermic injection of any illegal drug.

The costs that are generally allowable in grants to domestic organizations are likewise allowable to foreign institutions and international organizations, with the following exceptions:

A. Alterations and Renovations: Unallowable.

B. Customs and Import Duties: Unallowable. This includes consular fees, customs surtax, value added taxes, and other related charges.

C. Indirect Costs: With the exception of the American University, Beirut, the Gorgas Memorial Institute, and the World Health Organization, indirect costs will not be paid (either directly or through a sub-award) to organizations located outside the territorial limits of the United States or to international organizations regardless of their location.

D. Submission and Deadline

Submit the original and two copies of PHS 5161-1 (OMB Number 0920-0428). Forms are available in the application kit and at the following Internet address: www.cdc.gov/od/pgo/forminfo.htm.

On or before July 25, 2001, submit an electronic or hard copy of the application to the Grants Management Specialist identified in the “Where to Obtain Additional Information” section of this announcement. If you choose to submit your application electronically, you should submit hard copies of your application on or before August 9, 2001.

Deadline: Applications shall be considered as meeting the deadline if they are either:

1. Received on or before the deadline date; or

2. Sent on or before the deadline date and received in time for submission to the independent review group.

Late Applications: Applications which do not meet the criteria 1. or 2. above will be returned to the applicant.

E. Where To Obtain Additional Information

Forms are available in the application kit and at the following Internet address: www.cdc.gov/od/pgo/forminfo.htm

This and other CDC announcements can be found on the CDC home page Internet address— http://www.cdc.gov. Click on “Funding” then “Grants and Cooperative Agreements.” To obtain business management technical assistance, contact: Dorimar Rosado, Grants Management Specialists, Grants Management Branch, Procurement and Grants Office, Centers for Disease Control and Prevention, 2920 Brandywine Road, Room 3000, Atlanta, GA 30341-4146, Telephone number: (770) 488-2782, Email: dpr7@cdc.gov.

For program technical assistance, contact: Jonathan Mermin, MD, MPH, Global AIDS Program (GAP), Uganda Country Team, National Center for HIV, STD, and TB Prevention, Centers for Disease Control and Prevention (CDC), P.O. Box 49, Entebbe, Uganda, Telephone: 41-32-0776, Email: jhm7@cdc.gov.

Dated: June 26, 2001.
John L. Williams,
Director, Procurement and Grants Office, Centers for Disease Control and Prevention (CDC).

[FR Doc. 01-16533 Filed 6-29-01; 8:45 am]

BILLING CODE 4163-18-P